DEPARTMENT OF ENERGY

Federal Energy Regulatory Commission

[Docket No. CP05-45-000]

TransColorado Gas Transmission Company; Notice of Intent to Prepare an Environmental Assessment for the Proposed North Expansion Project And Request for Comments on Environmental Issues

February 9, 2005.

The staff of the Federal Energy Regulatory Commission (FERC or Commission) will prepare an environmental assessment (EA) that will discuss the environmental impacts of the North Expansion Project involving construction and operation of facilities by TransColorado Gas Transmission Company (TransColorado) in Rio Blanco County and Mesa County, Colorado.¹ These facilities would consist of about 2,200 feet of 24-inch diameter pipeline, 4,670 horsepower (hp) ISO-rated of compression, and meter replacements. This EA will be used by the Commission in its decision-making process to determine whether the project is in the public convenience and necessity.

¹ TransColorado's application was filed with the Commission under section 7 of the Natural Gas Act and Part 157 of the Commission's regulations.

The FERC will be the lead federal agency for the preparation of the EA. The document will satisfy the requirements of the National Environmental Policy Act (NEPA). The U.S. Bureau of Land Management (BLM) has also agreed to participate as a cooperating agency in the preparation of the EA to satisfy its NEPA responsibilities. It is the goal of the FERC and the BLM to avoid duplication of effort and prepare a single EA that can be used to satisfy their NEPA responsibilities.

Summary of the Proposed Project

TransColorado proposes to:

• Construct and operate a new Greasewood Compressor Station, in Rio Blanco County, Colorado, comprised of two 1,000 hp compressor units and one 2,061 hp compressor unit;

• Construct about 2,200 feet of 24-inch diameter pipeline and one 12-inch bidirectional turbine meter on the discharge side of the proposed Greasewood Compressor Station; and

• Replace two existing 10-inch orifice meters with two new 12-inch turbine meters at the Raccoon Hollow Meter Station in Mesa County, Colorado.

Also, TransColorado indicates it would construct and operate, under Section 2.55(a), the following ancillary facilities at the proposed Greasewood Compressor Station site: one emergency power generator, a station supervisory control system, and a motor control center building.

In support of its application TransColorado indicates that the proposed facility would enable it to deliver up to 300,000 decatherms per day of gas to the Greasewood Hub. TransColorado states that the proposed project would significantly enhance market access for developing natural gas supplies in the Piceance Basin.

The general location of the project facilities is shown in Appendix 1.²

² The appendices referenced in this notice are not being printed in the Federal Register. Copies of all appendices, other than Appendix 1 (maps), are available on the Commission's website at the “eLibrary” link or from the Commission's Public Reference Room, 888 First Street, NE., Washington, DC 20426, or call (202) 502-8371. For instructions on connecting to eLibrary refer to the Additional Information section of this notice. Copies of the appendices were sent to all those receiving this notice in the mail.

Land Requirements for Construction

Construction of the proposed facilities would require about 15.0 acres of land. Following construction, about 5.8 acres would be maintained as new aboveground facility sites. The remaining 9.2 acres of land would be restored and allowed to revert to its former use. All of these facilities to be constructed at the Greasewood Compressor Station are located on federal land managed by the BLM. The facilities to be modified at the Raccoon Hollow Meter Station are located on private land. All disturbed areas not required for operation at the compressor station and new meter site would be properly reclaimed, including spreading of any salvaged topsoil and reseeding using BLM-approved seed mix.

The EA Process

NEPA requires the Commission to take into account the environmental impacts that could result from an action whenever it considers the issuance of a Certificate of Public Convenience and Necessity. NEPA also requires us to discover and address concerns the public may have about proposals. This process is referred to as “scoping”. The main goal of the scoping process is to focus the analysis in the EA on the important environmental issues. By this Notice of Intent, the Commission staff requests public comments on the scope of the issues to address in the EA. All comments received are considered during the preparation of the EA. State and local government representatives are encouraged to notify their constituents of this proposed action and encourage them to comment on their areas of concern.

In the EA we ³ will discuss impacts that could occur as a result of the construction and operation of the proposed project under these general headings:

³ “We”, “us”, and “our” refer to the environmental staff of the Office of Energy Projects (OEP).

• Geology and soils

• Land use

• Cultural resources

• Vegetation and wildlife

• Air quality and noise

• Endangered and threatened species

• Hazardous waste

• Public safety

We will also evaluate possible alternatives to the proposed project or portions of the project, and make recommendations on how to lessen or avoid impacts on the various resource areas.

Our independent analysis of the issues will be in the EA. Depending on the comments received during the scoping process, the EA may be published and mailed to federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section below.

Currently Identified Environmental Issues

We have already identified air and noise impacts as issues that we think deserve attention based on a preliminary review of the proposed facilities and the environmental information provided by TransColorado. This preliminary list of issues may be changed based on your comments and our analysis.

Public Participation

You can make a difference by providing us with your specific comments or concerns about the project. By becoming a commentor, your concerns will be addressed in the EA and considered by the Commission. You should focus on the potential environmental effects of the proposal, alternatives to the proposal, and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426.

• Label one copy of the comments for the attention of Gas Branch 2.

• Reference Docket No. CP05-45-000.

• Mail your comments so that they will be received in Washington, DC on or before March 11, 2005.

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created on-line.

We may mail the EA for comment. If you are interested in receiving it, please return the Information Request (Appendix 3). If you do not return the Information Request, you will be taken off the mailing list.

Becoming an Intervenor

In addition to involvement in the EA scoping process, you may want to become an official party to the proceeding known as an “intervenor”. Intervenors play a more formal role in the process. Among other things, intervenors have the right to receive copies of case-related Commission documents and filings by other intervenors. Likewise, each intervenor must send one electronic copy (using the Commission's eFiling system) or 14 paper copies of its filings to the Secretary of the Commission and must send a copy of its filings to all other parties on the Commission's service list for this proceeding. If you want to become an intervenor you must file a motion to intervene according to Rule 214 of the Commission's Rules of Practice and Procedure (18 CFR 385.214) (see Appendix 2).⁴ Only intervenors have the right to seek rehearing of the Commission's decision.

⁴ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Additional Information

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Finally, public meetings or site visits will be posted on the Commission's calendar located at http://www.ferc.gov/EventCalendar/EventsList.aspx along with other related information.

Magalie R. Salas,
Secretary.

[FR Doc. E5-645 Filed 2-15-05; 8:45 am]

BILLING CODE 6717-01-P